DEPARTMENT OF ENERGY

Federal Energy Regulatory Commission

Combined Notice of Filings #2

Take notice that the Commission received the following exempt wholesale generator filings:

Docket Numbers: EG25-420-000.

Applicants: Dry Falls Energy Center, LLC.

Description: Dry Falls Energy Center, LLC submits Notice of Self-Certification of Exempt Wholesale Generator Status.

Filed Date: 7/30/25.

Accession Number: 20250730-5097.

Comment Date: 5 p.m. ET 8/20/25.

Docket Numbers: EG25-421-000.

Applicants: South Platte Solar, LLC.

Description: South Platte Solar, LLC submits Notice of Self-Certification of Exempt Wholesale Generator Status.

Filed Date: 7/30/25.

Accession Number: 20250730-5098.

Comment Date: 5 p.m. ET 8/20/25.

Take notice that the Commission received the following electric rate filings:

Docket Numbers: ER19-106-007.

Applicants: Birdsboro Power LLC.

Description: Notice of Change in Status of Birdsboro Power LLC.

Filed Date: 7/29/25.

Accession Number: 20250729-5179.

Comment Date: 5 p.m. ET 8/19/25.

Docket Numbers: ER19-2822-004; ER15-1065-006; ER15-1066-007; ER15-1676-006; ER16-892-006; ER16-893-007; ER16-1371-008; ER16-1990-008; ER17-43-006; ER17-44-006; ER17-239-007; ER17-962-003; ER17-2318-006; ER18-697-005; ER18-2516-005; ER19-2460-004; ER20-1014-005; ER20-1015-005; ER20-1996-008; ER20-2458-005; ER20-2472-004; ER21-207-004; ER21-285-005; ER21-1187-007; ER21-1188-007; ER21-1217-007; ER21-1218-007; ER21-1370-008; ER21-1916-006; ER21-1961-006; ER21-2911-004; ER21-2912-004; ER22-123-005; ER23-326-004; ER23-327-004; ER23-2684-003; ER23-2732-003; ER23-2813-005; ER23-2814-003; ER23-2815-003; ER23-2816-004; ER24-482-004; ER24-719-004; ER24-720-004; ER24-847-004; ER24-1386-003; ER24-2534-003; ER24-2535-003; ER24-2657-003; ER24-2986-004; ER24-3150-002; ER24-3151-002; ER25-1056-003; ER25-1057-003; ER25-1107-003; ER25-1910-001.

Applicants: White Tail Solar, LLC, SloughHouse Solar, LLC, Hornshadow Solar 2, LLC, Hornshadow Solar, LLC, Speedway Solar, LLC, Rocking R Solar, LLC, Long Lake Solar, LLC, Blue Bird Solar, LLC, Gravel Pit Solar IV, LLC, Gravel Pit Solar III, LLC, Bartonsville Energy Facility, LLC, Sunlight Road Solar, L.L.C., SJS 1 Storage, LLC, San Juan Solar 1, LLC, River Fork Solar, LLC, Rocket Solar, LLC, Horseshoe Solar, LLC, Elektron Solar, LLC, Castle Solar, LLC, Hunter Solar, LLC, Steel Solar, LLC, Arroyo Energy Storage LLC, Arroyo Solar LLC, Hecate Energy Highland LLC, Drew Solar-CA, LLC, Drew Solar, LLC, Big River Solar, LLC, Assembly Solar III, LLC, Assembly Solar II, LLC, St. James Solar, LLC, Iris Solar, LLC, Prairie State Solar, LLC, Dressor Plains Solar, LLC, Sigurd Solar LLC, Rancho Seco Solar, LLC, Rancho Seco Solar II LLC, Hunter Solar LLC, Assembly Solar I, LLC, Cove Mountain Solar 2, LLC, Cove Mountain Solar, LLC, DWW Solar II, LLC, Willow Springs Solar, LLC, Gray Hawk Solar, LLC, Cuyama Solar, LLC, MS Solar 2, LLC,TPE Alta Luna, LLC, Portal Ridge Solar C, LLC, Portal Ridge Solar B, LLC, North Star Solar PV LLC, 63SU 8ME LLC, 62SK 8ME LLC, Red Horse III, LLC, Balko Wind Transmission, LLC, Red Horse Wind 2, LLC, Balko Wind, LLC, Airport Solar LLC.

Description: Notice of Change in Status of Airport Solar LLC et al.

Filed Date: 7/29/25.

Accession Number: 20250729-5181.

Comment Date: 5 p.m. ET 8/19/25.

Docket Numbers: ER25-3027-000.

Applicants: Midcontinent Independent System Operator, Inc., Duke Energy Indiana, LLC.

Description: 205(d) Rate Filing: Duke Energy Indiana, LLC submits tariff filing per 35.13(a)(2)(iii: 2025-07-30_Duke Energy Indiana Request for Incentives to be effective 9/29/2025.

Filed Date: 7/30/25.

Accession Number: 20250730-5100.

Comment Date: 5 p.m. ET 8/20/25.

Docket Numbers: ER25-3028-000.

Applicants: Midcontinent Independent System Operator, Inc..

Description: 205(d) Rate Filing: 2025-07-30_Resource Adequacy related clean-up filing to be effective 9/30/2025.

Filed Date: 7/30/25.

Accession Number: 20250730-5104.

Comment Date: 5 p.m. ET 8/20/25.

Docket Numbers: ER25-3029-000.

Applicants: Tibbits Energy Storage LLC.

Description: 205(d) Rate Filing: Normal filing 2025 to be effective 9/29/2025.

Filed Date: 7/30/25.

Accession Number: 20250730-5109.

Comment Date: 5 p.m. ET 8/20/25.

Docket Numbers: ER25-3030-000.

Applicants: NGP Blue Mountain I LLC.

Description: 205(d) Rate Filing: Update to Limitations and Mitigated Sales Provisions to be effective 9/29/2025.

Filed Date: 7/30/25.

Accession Number: 20250730-5111.

Comment Date: 5 p.m. ET 8/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 30, 2025.
Carlos D. Clay,
Deputy Secretary.

[FR Doc. 2025-14696 Filed 8-1-25; 8:45 am]

BILLING CODE 6717-01-P